SMALL BUSINESS ADMINISTRATION

13 CFR Parts 121, 125 and 126

RIN: 3245-AE66

Small Business Size Regulations; Government Contracting Programs; HUBZone Program

AGENCY: Small Business Administration.

ACTION: Notice of proposed rule; notice of extension of the comment period.

SUMMARY: The proposed rule proposes to amend its regulations for the Historically Underutilized Business Zone Program (HUBZone Program). On December 21, 2000, the Small Business Reauthorization Act of 2000 made several changes to the HUBZone Program, including changes to the eligibility requirements for small business concerns owned by Native American Tribal Governments and Community Development Corporations, and the addition of new HUBZone areas called redesignated areas. This proposed rule addresses these statutory amendments, clarifies several regulations, and makes some technical changes, including changes to website addresses. In addition, SBA proposes to amend its regulations, which address subcontracting limitations and to amend its size regulations to make SBA's application of the nonmanufacturer rule consistent for all programs. The proposed rule was published on January 28, 2002, 67 FR 3826. The comment period closes on February 27, 2002. We are extending the comment period because the Small Business Administration believes that affected businesses need more time to adequately respond.

DATES: The comment period for the proposed rule published on January 28, 2002 (67 FR 3826) is extended through March 29, 2002.

ADDRESSES: Address all comments to Michael McHale, Associate Administrator for the HUBZone Empowerment Contracting Program (AA/HUB), U.S. Small Business Administration, 409 Third Street, SW, Washington, DC 20416 or via e-mail to or hubzone@sba.gov.

Fred C. Armendariz,
Associate Deputy Administrator for Government Contracting and Business Development.

[FR Doc. 02-4531 Filed 2-25-02; 8:45 am]

BILLING CODE 8025-01-P